NUCLEAR REGULATORY COMMISSION

[Docket Nos. 50-461, 50-346, 50-341, 50-352, and 50-353; NRC-2020-0110]

Issuance of Multiple Exemptions in Response to COVID-19 Public Health Emergency

AGENCY: Nuclear Regulatory Commission.

ACTION: Exemptions; issuance.

SUMMARY: The U.S. Nuclear Regulatory Commission (NRC) issued four exemptions in response to requests from three licensees. The exemptions afford these licensees temporary relief from certain requirements under NRC regulations. The exemptions are in response to the licensees' requests for relief due to the coronavirus 2019 disease (COVID-19) public health emergency (PHE). The NRC is issuing a single notice to announce the issuance of the exemptions.

DATES: During the period from April 6, 2021, to April 29, 2021, the NRC granted four exemptions in response to requests submitted by three licensees from March 4, 2021, to April 20, 2021.

ADDRESSES: Please refer to Docket ID NRC-2020-0110 when contacting the NRC about the availability of information regarding this document. You may obtain publicly available information related to this document using any of the following methods:

• Federal Rulemaking Website: Go to https://www.regulations.gov and search for Docket ID NRC-2020-0110. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

For the convenience of the reader, instructions about obtaining materials referenced in this document are provided in the “Availability of Documents” section.

FOR FURTHER INFORMATION CONTACT: James Danna, Office of Nuclear Reactor Regulation, U.S. Nuclear Regulatory Commission, Washington, DC 20555-0001; telephone: 301-415-7422, email: James.Danna@nrc.gov.

SUPPLEMENTARY INFORMATION:

I. Introduction

During the period from April 6, 2021, to April 29, 2021, the NRC granted four exemptions in response to requests submitted by three licensees from March 4, 2021, to April 20, 2021. These exemptions temporarily allow the licensees to deviate from certain requirements (as cited in this notice) of various parts of chapter I of title 10 of the Code of Federal Regulations (10 CFR).

The exemptions from certain requirements of 10 CFR part 26, “Fitness for Duty Programs,” for DTE Electric Company (for Fermi, Unit 2), and Exelon Generation Company, LLC (for Clinton Power Station, Unit 1 and Limerick Generating Station, Units 1 and 2), afford these licensees temporary relief from the work-hour control requirements under 10 CFR 26.205(d)(1) through (d)(7). The exemptions from 10 CFR 26.205(d)(1) through (d)(7) ensure that the control of work hours and management of worker fatigue does not unduly limit licensee flexibility in using personnel resources to most effectively manage the impacts of the COVID-19 PHE on maintaining the safe operation of these facilities. Specifically, these licensees have stated that their staffing levels are affected or are expected to be affected by the COVID-19 PHE, and they can no longer meet or likely will not meet the work-hour controls of 10 CFR 26.205(d)(1) through (d)(7). These licensees have committed to effecting site-specific COVID-19 PHE fatigue-management controls for personnel specified in 10 CFR 26.4(a).

The exemption from certain requirements of 10 CFR part 50, appendix E, “Emergency Planning and Preparedness for Production and Utilization Facilities,” section IV.F., “Training,” for Energy Harbor Nuclear Corp. (for Davis-Besse Nuclear Power Station, Unit No. 1), grants a temporary exemption from the offsite biennial emergency preparedness exercise requirement. The exemption affords this licensee temporary relief from the requirements of 10 CFR part 50, appendix E, regarding the requirement offsite response organization (ORO) participation in the biennial emergency preparedness exercise for calendar year 2021. This exemption will not adversely affect the emergency response capability of the facility because the licensee has conducted numerous drills, exercises, and other training activities that have exercised the licensee's emergency response strategies since the last evaluated biennial emergency preparedness exercise and that State, county and local OROs have participated.

The NRC is providing compiled tables of exemptions using a single Federal Register notice for COVID-19 related exemptions instead of issuing individual Federal Register notices for each exemption. The compiled tables in this notice provide transparency regarding the number and type of exemptions the NRC has issued. Additionally, the NRC publishes tables of approved regulatory actions related to the COVID-19 PHE on its public website at https://www.nrc.gov/about-nrc/covid-19/reactors/licensing-actions.html.

II. Availability of Documents

The tables in this notice provide the facility name, docket number, document description, and ADAMS accession number for each exemption issued. Additional details on each exemption issued, including the exemption request submitted by the respective licensee and the NRC's decision, are provided in each exemption approval listed in the tables in this notice. For additional directions on accessing information in ADAMS, see the ADDRESSES section of this document.

Clinton Power Station, Unit 1
[Docket No. 50-461]
Document description | ADAMS accession No.
Clinton Power Station, Unit 1—COVID-19 Related Request for Exemption from 10 CFR part 26 Work Hours Requirements, dated April 20, 2021 | ML21111A004
Clinton Power Station, Unit 1—Exemption from Specific Requirements of 10 CFR part 26 (EPID L-2021-LLE-0067 [COVID-19]), dated April 29, 2021 | ML21112A007

Davis-Besse Nuclear Power Station, Unit 1
[Docket No. 50-346]
Document description | ADAMS accession No.
Davis-Besse Nuclear Power Station, Unit 1—Request for One-Time Exemption from 10 CFR part 50, appendix E, Biennial Emergency Preparedness Exercise Requirements due to COVID-19 Pandemic, dated March 15, 2021 | ML21074A367
Davis-Besse Nuclear Power Station, Unit 1—Temporary Exemption from Certain Biennial Emergency Preparedness Exercise Requirements of 10 CFR part 50, appendix E, section IV.F (EPID L-2021-LLE-0018 [COVID-19]), dated April 19, 2021 | ML21098A180

Fermi, Unit 2
[Docket No. 50-341]
Document description | ADAMS accession No.
Fermi, Unit 2—Work Hour Limits Exemption Request due to COVID-19, dated April 19, 2021 | ML21109A136
Fermi, Unit 2—Exemption from Select Requirements of 10 CFR part 26 (EPID L-2021-LLE-0025 [COVID-19]), dated April 22, 2021 | ML21109A374

Limerick Generating Station, Units 1 and 2
[Docket Nos. 50-352 and 50-353]
Document description | ADAMS accession No.
Limerick Generating Station, Units 1 and 2—COVID-19 Related Request for Exemption from 10 CFR part 26 Work Hours Requirements, dated March 4, 2021 | ML21064A002
Limerick Generating Station, Units 1 and 2—Exemption from Specific Requirements of 10 CFR part 26 (EPID L-2021-LLE-0017 [COVID-19]), dated April 6, 2021 | ML21078A050

Dated: May 19, 2021.
For the Nuclear Regulatory Commission.
James G. Danna,
Chief, Plant Licensing Branch I, Division of Operating Reactor Licensing, Office of Nuclear Reactor Regulation.

[FR Doc. 2021-10923 Filed 5-24-21; 8:45 am]

BILLING CODE 7590-01-P